DEPARTMENT OF COMMERCE

National Oceanic and Atmospheric Administration

[I.D. 031201B]

Availability of an Environmental Assessment and Receipt of an Application for an Incidental Take Permit for the Grants Pass Irrigation District, Habitat Conservation Plan, Jackson and Josephine Counties, Oregon

AGENCY: National Marine Fisheries Service (NMFS), National Oceanic and Atmospheric Administration (NOAA),Commerce.

ACTION: Notice of application; request for public comment.

SUMMARY: This notice advises the public that, pursuant to the Endangered Species Act of 1973, as amended (Act), Grants Pass Irrigation District (GPID) has submitted an application to the National Marine Fisheries Service (NMFS) for an Incidental Take Permit (Permit) regarding the operation of Savage Rapids Dam in Josephine and Jackson Counties, Oregon, and has also prepared a Habitat Conservation Plan (Plan) designed to minimize and mitigate incidental take of endangered and threatened species. The proposed Permit would authorize the incidental take of the Southern Oregon/Northern California coho salmon (Oncorhynchus kisutch) and would also seek coverage for one species (Klamath Mountain Province steelhead (O. Mykiss)) proposed for listing under specific provisions of the Permit, should this species be listed in the future. The duration of the proposed Permit and Plan is one year. NMFS announces the availability of the Habitat Conservation Plan and a draft Environmental Assessment for review and provides other agencies and the public with the opportunity to review and comment on these documents.

DATES: Written comments on the Permit application, draft Environmental Assessment, and Habitat Conservation Plan must be received from interested parties no later than April 16, 2001.

ADDRESSES: Requests for documents on CD ROM should be made by calling the National Marine Fisheries Service at (503) 231-2377. For hardbound copies and an electronic address see SUPPLEMENTARY INFORMATION, under the heading, Libraries and Electronic Access. Comments and requests for information should be directed to Nancy Munn, Project Biologist, National Marine Fisheries Service, 525 NE Oregon Street, Suite 500, Portland, OR, 97232-2778 (Tel (503) 231-6269; Fax (503) 231-6893). Comments and materials received will also be available for public inspection, by appointment, during normal business hours by calling (503) 231-2377.

FOR FURTHER INFORMATION CONTACT: Nancy Munn, (503) 231-6269.

SUPPLEMENTARY INFORMATION: Section 9 of the Act and Federal regulations prohibit the “taking” of a species listed as endangered or threatened. The term “take” is defined under the Act to mean harass, harm, pursue, hunt, shoot, wound, kill, trap, capture, collect, or to attempt to engage in any such conduct. The definition for “harm” includes significant habitat modification or degradation that actually kills or injures wildlife by significantly impairing essential behavioral patterns, including breeding, feeding or sheltering.

NMFS may issue permits, under limited circumstances, to take listed species incidental to otherwise lawful activities. Regulations governing permits for threatened and endangered species are promulgated at 50 CFR 222.307.

Background

GPID currently serves approximately 8,000 patrons owning a total of 7,700 acres in Jackson and Josephine counties. Savage Rapids Dam provides GPID with its primary water supply. Water is delivered through 160 miles of canals in the greater Grants Pass area. The water provided by GPID is not treated and thus is not used for human consumption. Of the 8,000 patrons, about 300 own more than 5 acres, and the remaining 7,700 own less than 5 acres. The patrons with more than 5 acres represent a variety of agricultural interests as well as some industrial interests. Of the 7,700 patrons owning less than 5 acres, most use GPID water for small hayfields and/or personal vegetable gardens.

Fish passage has been an issue at Savage Rapids Dam since GPID constructed the dam in 1921. Currently, there are fish ladders located at both the north and south sides of the dam to provide for upstream and downstream fish migration. The north fish ladder is a rectangular, concrete structure containing pools 8 feet long and 9 feet wide. The south fish ladder is a concrete structure approximately 100 feet long and divided into 10 pools. Extending from the bottom of the south ladder to the river are a series of fish resting pools and attraction channels.

GPID proposes to operate Savage Rapids Dam consistent with conservation measures developed during 1998-2000 to reduce take, with further operational modifications based on the timing of fish runs. The duration of this proposal is one year. During the 1-year implementation period, GPID will continue to pursue Federal authorization and funding for dam removal. Within one year, more information regarding the likelihood and timing of dam removal will be available, and a new proposed action can be identified. The current proposed action would divert 150 cubic feet per second (cfs) of water from the Rogue River into GPID’s distribution system during the 2001 irrigation season, from April to October.

Activities associated with the north turbine/pump intake, south gravity intake, and the fish ladders have the potential to impact species subject to protection under the Act. Section 10 of the Act contains provisions for the issuance of incidental take permits to non-Federal land owners for the take of endangered and threatened species, provided the take is incidental to otherwise lawful activities and will not appreciably reduce the likelihood of the survival and recovery of the species in the wild. In addition, the applicant must prepare and submit to NMFS for approval a habitat conservation plan containing a strategy to minimize, mitigate, and monitor all take associated with the proposed activities to the maximum extent practicable. The applicant must also ensure that adequate funding for the Plan will be provided.

GPID has initiated discussions with NMFS regarding the possibility of a Permit and associated Plan for activities at Savage Rapids Dam. Activities proposed for inclusion in this Permit include: all aspects of operating the dam, including opening and closing the radial gates, installing and removing the stoplogs, and operating the fish ladders, the turbine and the screens, and the diversion facilities. The Permit and Plan would also cover monitoring activities and related scientific experiments in the Plan area. The duration of the proposed Permit and Plan is one year.

NMFS is formally initiating an environmental review of the project through this Federal Register notice. This notice announces a 30-day public comment period, during which other agencies, tribes, and the public are invited to provide comments on the Plan and Environmental Assessment. The Environmental Assessment considers the No Action alternative, the Proposed Action, and two additional action alternatives.

Under the No Action Alternative, a 99-year incidental take permit would be issued for a Plan that would not make changes to its historical operations (prior to 1998) although structural changes made to facilities since 1998 would remain in place. In addition, GPID would not pursue dam removal, and no monitoring for impacts to fish would occur. Under the Proposed Action, NMFS would issue a 1-year Incidental Take Permit, and GPID would implement its proposed Habitat Conservation Plan at Savage Rapids Dam. Under another Alternative, which would further restrict irrigation operations while continuing to pursue funding for dam removal, NMFS would issue a 1-year Incidental Take Permit, and GPID would implement a Habitat Conservation Plan with a monitoring program and shut down triggers that are similar to the Proposed Action. A final Alternative proposes the issuance of a 99-year Incidental Take Permit for a Plan that would replace the north irrigation screens with new screens in compliance with NMFS’ screen criteria. The Savage Rapids Dam and its water-powered turbine pumps would remain in place with this Alternative. No monitoring of impacts to fish would occur, and there would be no triggers for the shut-down of operations.

Alternatives considered but not analyzed in detail include an Alternative based on the Proposed Action and the removal of the dam, which includes the construction of two new pumping plants and site restoration. This alternative was not analyzed because of the uncertainty associated with funding. Late in 2000, Senators Ron Wyden and Gordon Smith introduced legislation to provide Federal funding to remove Savage Rapids Dam, but there was no time to move the bill forward during the session. The bill will be re-introduced in the current Congress, although funding is uncertain at this time.

The No Action, Proposed Action, and two alternatives are analyzed in detail in the draft Environmental Assessment.

This notice is provided pursuant to section 10(a) of the Act and to National Environmental Policy Act regulations. NMFS will evaluate the application, associated documents, and comments submitted thereon to determine whether the application meets the requirements of the Act and the National Environmental Policy Act. If it is determined that the requirements are met, a permit will be issued for the incidental take of listed species. The final permit decision will be made no sooner than April 16, 2001.

Libraries and Electronic Access

Hardbound copies are available for viewing, or partial or complete duplication, at the following libraries: Medford Headquarters Library, Headquarters Regional Services, 413 West Main Street, Medford, Oregon 97501, Tel (541) 774-8689; Rogue River Regional Library, West County Regional Services, 412 East Main Street, Rogue River, Oregon 97537, Tel (541) 582-1714; Josephine County Library Services, Main Library, 200 N.W. “C” Street, Grants Pass, OR 97526, Tel (541) 474-5480. The documents are also available electronically on the World Wide Web at http://www.nwr.noaa.gov/1habcon/habweb/hcp.htm.

Dated: March 9, 2001.
Phil Williams,
Acting Chief, Endangered Species Division, Office of Protected Resources, National Marine Fisheries Service.

[FR Doc. 01-6454 Filed 3-14-01; 8:45 am]

BILLING CODE 3510-22-S